SMALL BUSINESS ADMINISTRATION

Escalate Capital Partners SBIC I, L.P., License No. 06/06-0335; Notice Seeking Exemption Under Section 312 of the Small Business Investment Act, Conflicts of Interest

Notice is hereby given that Escalate Capital Partners SBIC I, L.P., 300 W. 6th Street, Suite 2250, Austin, TX 78701, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). Escalate Capital Partners SBIC I, L.P. proposes to make a debt investment in Windwood I Development Co., Inc., a wholly owned subsidiary of Lincoln Renewable Energy, LLC, which is portfolio company of its Associate Austin Ventures.

The financing is brought within the purview of § 107.730(a)(l) of the Regulations because Austin Ventures, an Associate of Escalate Capital Partners, SBIC I, L.P., owns more than ten percent of Lincoln Renewable Energy LLC, parent company of Windwood I Development Co., Inc. Therefore, this transaction is considered a financing of an Associate requiring an exemption.

Notice is hereby given that any interested person may submit written comments on the transaction, within 15 days of the date of this publication, to the Associate Administrator for Investment, U.S. Small Business Administration, 409 Third Street SW., Washington, DC 20416.

Dated: May 15, 2013.
Harry E. Haskins,
Acting Associate Administrator for Investment.

[FR Doc. 2013-12500 Filed 5-28-13; 8:45 am]

BILLING CODE 8025-01-P